DEPARTMENT OF STATE

[Public Notice 5122]

30-Day Notice of Proposed Information Collection: DS-82, Application for a U.S. Passport by Mail, OBM Control Number 1405-0020

ACTION: Notice of request for public comment and submission to OMB of proposed collection of information.

SUMMARY: The Department of State has submitted the following information collection request to the Office of Management and Budget (OMB) for approval in accordance with the Paperwork Reduction Act of 1995.

• Title of Information Collection: Application for a U.S. Passport by Mail.

• OMB Control Number: 1405-0020.

• Type of Request: Extension.

• Originating Office: CA/PPT/FO/FC.

• Form Number: DS-82.

• Respondents: Individuals or households.

• Estimated Number of Respondents: 2,900,000 per year.

• Estimated Number of Responses: 2,900,000 per year.

• Average Hours Per Response: 40 minutes.

• Total Estimated Burden: 1,933,333 hours per year.

• Frequency: On occasion.

• Obligation to Respond: Required to obtain or retain a benefit.

DATES: Submit comments to the Office of Management and Budget (OMB) for up to 30 days from July 5, 2005.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, 725 17th Street, NW., Washington, DC 20503.

• Fax: 202-395-6974.

FOR FURTHER INFORMATION CONTACT: You may obtain copies of the proposed information collection and supporting documents from, Susan Cowlishaw (2100 Pennsylvania Ave. NW., 3rd Floor, Washington, DC 20037), who may be reached on 202-261-8957 or at Cowlishawsc@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The information collected on the DS-82 is used to facilitate the issuance of passports to U.S. citizens and non-citizen nationals. The primary purpose of soliciting the information is to establish citizenship, identity, and entitlement to the issuance of the United States passport or related service, and to properly administer and enforce the laws pertaining to issuance thereof.

Methodology

Passport Services collects information from U.S. citizens and non-citizen nationals when they complete and submit the Application for a U.S. Passport by Mail. Passport applicants can either download the form from the Internet or obtain one from an Acceptance Facility/Passport Agency. The form must be completed, signed and then submitted along with the applicant's previous U.S. passport.

Dated: July 17, 2005.
Ann Barrett,
Acting Deputy Assistant Secretary for Passport Services, Bureau of Consular Affairs, Department of State.

[FR Doc. 05-13108 Filed 7-1-05; 8:45 am]

BILLING CODE 4710-06-P